ADMINISTRATIVE CONFERENCE OF THE UNITED STATES

Notice of Public Meetings of the Committee on Adjudication of the Administrative Conference of the United States

AGENCY: Administrative Conference of the United States.

ACTION: Notice of public meetings.

SUMMARY: Notice is hereby given of two public meetings of the Committee on Adjudication of the Assembly of the Administrative Conference of the United States. At these meetings, the committee will consider a draft report and a draft recommendation examining ways to improve procedures for immigration adjudication. Complete details regarding the committee meeting, the contours of the Immigration Adjudication Project, how to attend (including information about remote access and obtaining special accommodations for persons with disabilities), and how to submit comments to the committee can be found in the “About” section of the Conference's Web site, at http://www.acus.gov. Click on “About,” then on “The Committees,” and then on “Committee on Adjudication.”

Comments may be submitted by email to Comments@acus.gov, with “Committee on Adjudication” in the subject line, or by postal mail to “Committee on Adjudication Comments” at the address given below.

DATES: Wednesday, January 25 from 1:30 p.m. to 4:30 p.m.; and Wednesday, February 22 from 1:30 p.m. to 4:30 p.m.

ADDRESSES: The meetings will be held at 1120 20th Street NW., Suite 706 South, Washington, DC 20036.

FOR FURTHER INFORMATION CONTACT: Funmi E. Olorunnipa, Designated Federal Officer, Administrative Conference of the United States, 1120 20th Street NW., Suite 706 South, Washington, DC 20036; Telephone (202) 480-2080.

SUPPLEMENTARY INFORMATION: The Committee on Adjudication will meet to discuss a draft report on the Immigration Adjudication Project. The report, prepared by Professor Lenni B. Benson (New York Law School) and Russell Wheeler (Brookings Institution), presents the findings of a study of potential improvements to the procedures for immigration adjudication. At its meetings, the Committee on Adjudication will also consider a draft recommendation based on the consultants' report.

Dated: January 4, 2012.
Shawne C. McGibbon,
General Counsel.

[FR Doc. 2012-119 Filed 1-6-12; 8:45 am]

BILLING CODE 6110-01-P